DEPARTMENT OF COMMERCE

Patent and Trademark Office

Disposal of Paper Copies of U.S. Patents Removed From the Examiners' Search Rooms

AGENCY: Patent and Trademark Office, Commerce.

ACTION: Notice.

SUMMARY: The United States Patent and Trademark Office (USPTO) is considering whether the paper copies of selected subclasses of U.S. patents to be removed from the examiners' search rooms should be disposed of as wastepaper or donated to a non-profit organization. The USPTO is seeking input on whether any non-profit organization is interested in acquiring the paper copies of the U.S. patents to be removed from the examiners' search rooms.

DATES: Any interested non-profit organization should contact the USPTO on or before March 14, 2002 to indicate a desire to acquire paper copies of U.S. patents. If such interest is expressed, and the USPTO proceeds with donating the paper copies of U.S. patents removed from the examiners' search rooms to a non-profit organization, interested non-profit organizations will then be required to contact the USPTO within thirty days of the date the USPTO's web site is updated to include the subclasses in which the organization is interested.

FOR FURTHER INFORMATION CONTACT: Any interested non-profit organization should contact Richard Seidel by facsimile marked “ATTN EXAMINERS SEARCH ROOMS” at (703) 308-7725. Questions concerning this notice may be directed to Richard Seidel by telephone at (703) 306-3431.

SUPPLEMENTARY INFORMATION: The USPTO is in the process of removing paper copies of selected subclasses of U.S. patents from the examiners' search rooms. The National Archives and Records Administration (NARA) has determined that paper copies of U.S. patents in the examiners' search rooms are temporary records that may be destroyed when no longer needed for current USPTO business. Some of the paper copies have already been destroyed. The USPTO is considering whether it should: (1) Dispose of the paper copies of the selected subclasses of U.S. patents removed from the examiners' search rooms as wastepaper; or (2) donate the paper copies of the selected subclasses of U.S. patents removed from the examiners' search rooms to a non-profit organization. Therefore, the USPTO is seeking input on whether any non-profit organization is interested in acquiring the paper copies of U.S. patents to be removed from the examiners' search rooms (the USPTO is not currently aware of any).

Any donation of paper copies of U.S. patents must comply with the NARA regulations for the donation of temporary records which are set out in 36 CFR 1228.60. For example, the donee must be a non-profit organization and must agree not to sell the U.S. patent copies except as wastepaper, the donation must be made without cost to the United States Government, and NARA must provide written approval of the donation. Thus, even if there is interest by a non-profit organization in acquiring the paper copies of U.S. patents removed from the examiners' search rooms, the USPTO may still dispose of them as wastepaper if the USPTO cannot donate them to the non-profit organization in a cost-effective manner or if the USPTO cannot obtain written approval for the donation by NARA in a timely manner.

Since the USPTO is removing the paper copies of U.S. patents from the examiners' search rooms on a subclass-by-subclass basis, the USPTO is not in a position to accommodate a request by a non-profit organization for a complete set of all U.S. patents or even all U.S. patents in any particular class. The USPTO is only seeking non-profit organizations interested in the selected subclasses for which the paper copies of U.S. patents are being removed from the examiners' search rooms. In addition, as the USPTO will not be conducting a file integrity review of the paper copies of the U.S. patents in a subclass as they are being removed from the examiners' search rooms, the USPTO cannot assure that the paper copies of U.S. patents available for donation are a complete set of U.S. patents even as to the selected subclasses.

If the USPTO proceeds with donating the paper copies of U.S. patents removed from the examiners' search rooms to a non-profit organization, the USPTO will provide a list of the subclasses for which the paper copies of U.S. patents are being removed from the examiners' search rooms on the USPTO's Internet web site (www.uspto.gov). The USPTO will update this list when additional subclasses are removed from the examiners' search rooms.

The USPTO published a notice seeking public input on a proposal to eliminate patent and trademark classified paper files from the public search room. See Notice of Request for Comments on Development of a Plan to Remove the Patent and Trademark Classified Paper Files from the Public Search Room, 66 FR 45012 (Aug. 27, 2001), 1250 Off. Gaz. Pat. Office 137 (Sept. 25, 2001). This notice concerns a plan to dispose of paper copies of selected subclasses of U.S. patents removed from the examiners' search rooms and is not related to the development of a plan to eliminate patent and trademark classified paper files from the public search room.

Dated: February 5, 2002.
James E. Rogan,
Under Secretary of Commerce for Intellectual Property and, Director of the Patent and Trademark Office.

[FR Doc. 02-3276 Filed 2-11-02; 8:45 am]

BILLING CODE 3510-16-P